DEPARTMENT OF AGRICULTURE

Animal and Plant Health Inspection Service

[Docket No. APHIS-2008-0029]

Notice of Request for Revision and Extension of Approval of an Information Collection; Emergency Management Response System

AGENCY: Animal and Plant Health Inspection Service, USDA.

ACTION: Revision and extension of approval of an information collection; comment request.

SUMMARY: In accordance with the Paperwork Reduction Act of 1995, this notice announces the Animal and Plant Health Inspection Service's intention to request a revision and extension of approval of an information collection associated with the Emergency Management Response System.

DATES: We will consider all comments that we receive on or before June 10, 2008.

ADDRESSES: You may submit comments by either of the following methods:

Federal eRulemaking Portal: Go to http://www.regulations.gov/fdmspublic/component/main?main=DocketDetail&d=APHIS-2008-0029 to submit or view comments and to view supporting and related materials available electronically.

Postal Mail/Commercial Delivery: Please send two copies of your comment to Docket No. APHIS-2008-0029, Regulatory Analysis and Development, PPD, APHIS, Station 3A-03.8, 4700 River Road Unit 118, Riverdale, MD 20737-1238. Please state that your comment refers to Docket No. APHIS-2008-0029.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Emergency Management Response System, contact Dr. Randall Crom, Senior Staff Veterinarian, National Center for Animal Health Emergency Management, VS, APHIS, 4700 River Road, Unit 41, Riverdale, MD 20737; (301) 734-8073. For copies of more detailed information on the information collection, contact Mrs. Celeste Sickles, APHIS' Information Collection Coordinator, at (301) 734-7477.

SUPPLEMENTARY INFORMATION: Title: Emergency Management Response System.

OMB Number: 0579-0071.

Type of Request: Revision and extension of approval of an information collection.

Abstract: The Animal and Plant Health Inspection Service (APHIS), among other things, administers regulations intended to prevent foreign diseases of livestock or poultry from being introduced into the United States, conducts surveillance for the early detection of such foreign animal diseases, and conducts eradication programs if such foreign diseases are detected.

Through our automated Emergency Management Response System (EMRS), APHIS helps manage and investigate potential incidents of foreign animal diseases in the United States.

When a potential foreign animal disease incident is reported, APHIS dispatches a foreign animal disease veterinary diagnostician to the site to conduct an investigation. The diagnostician obtains vital epidemiologic data by conducting field investigations, including sample collection, and by interviewing the owner or manager of the premises being investigated. These important data, submitted electronically by the diagnostician into EMRS, include such items as the number of sick or dead animals on the premises, the results of necropsy examinations, vaccination information on the animals in the flock or herd, biosecurity practices at the site, whether any animals were recently moved out of the herd or flock, whether any new animals were recently introduced into the herd or flock, and detailed geographic data concerning premises location.

The previous title of this collection was “Foreign Animal Disease/Emerging Disease Investigation (FAD/EDI) Database.” After development and implementation of an automated system to collect animal disease related data, the collection title was changed to “Emergency Management Response System.” The Web-based system allows epidemiological and diagnostic data to be documented and transmitted more efficiently. VS form 12-27, which was used by diagnosticians to record data prior to EMRS implementation, is now obsolete.

We are asking the Office of Management (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1 hour per response.

Respondents: Owners/managers of premises.

Estimated annual number of respondents: 660.

Estimated annual number of responses per respondent: 4.

Estimated annual number of responses: 2,640.

Estimated total annual burden on respondents: 2,640 hours. (Due to averaging, the total annual burden hours may not equal the product of the annual number of responses multiplied by the reporting burden per response.)

All responses to this notice will be summarized and included in the request for OMB approval. All comments will also become a matter of public record.

Done in Washington, DC, this 7th day of April 2008.
Kevin Shea,
Acting Administrator, Animal and Plant Health Inspection Service.

[FR Doc. E8-7753 Filed 4-10-08; 8:45 am]

BILLING CODE 3410-34-P